DEPARTMENT OF COMMERCE

National Oceanic and Atmospheric Administration

[I.D. 010802A]

Proposed Information Collection; Comment Request; Fishing Capacity Reduction Program Buyback Requests

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506 (c)(2)(A)).

DATES: Written comments must be submitted on or before March 12, 2002.

ADDRESSES: Direct all written comments to Madeleine Clayton, Departmental Paperwork Clearance Officer, Department of Commerce, Room 6086, 14th and Constitution Avenue NW, Washington DC 20230 (or via Internet at MClayton@doc.gov).

FOR FURTHER INFORMATION CONTACT: Requests for additional information or copies of the information collection instrument(s) and instructions should be directed to Michael A. Sturtevant, National Marine Fisheries Service, Financial Services Division, Room 13334, 1315 East West Highway, Silver Spring, MD 20910 (301-713-2390).

SUPPLEMENTARY INFORMATION:

I. Abstract

NOAA has established a program to reduce excess fishing capacity by paying fishermen to (1) surrender their fishing permits or (2) both, surrender their permits and either scrap their vessels or restrict vessel titles to prevent fishing. Buybacks can be funded by a Federal loan to the industry or by direct Federal or other funding. Depending upon the type of buyback involved, the program can entail the submission of buyback requests by industry, the submission of bids, referenda if fishery participants, and reporting of the collection of fees to repay a Federal loan. For buybacks involving State-managed fisheries, the State may need to develop the buyback plan and comply with other information requirements.

In its request for renewed Paperwork Reduction Act approval NOAA will also request the merger of referenda requirements currently approved under 0648-0413 and the addition of a provision that would allow the public 30 days to advise of any holder or owner claims that conflict with accepted bidders’ representations about reduction permit ownership or reduction vessel ownership.

II. Method of Collection

Paper forms or submission are primarily used.

III. Data

OMB Number: 0648-0376.

Form Number: None.

Type of Review: Regular submission.

Affected Public: Business or other for-profit organizations; individuals or households; and State, Local, or Tribal government.

Estimated Number of Respondents: 1,272.

Estimated Time Per Response: 6,634 hours for a business plan, 4 hours for a referenda vote, 4 hours for an invitation to bid, 10 minutes to submit a fish ticket, 2 hours for a monthly buyer report, 4 hours for an annual buyer report, 2 hours for a seller/buyer report, 270 hours for a state approval of plans and amendments to state fishery management plan, and 1 hour for advising of any holder or owner claims that conflict with accepted bidders’ representations about reduction permit ownership or reduction vessel ownership.

Estimated Total Annual Burden Hours: 37,119.

Estimated Total Annual Cost to Public: $6,000.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 4, 2002.
Gwellnar Banks,
Management Analyst, Office of the Chief Information Officer.

[FR Doc. 02-777 Filed 1-10-02; 8:45 am]

BILLING CODE 3510-22-S